DEPARTMENT OF COMMERCE

National Oceanic and Atmospheric Administration

[RTID 0648-XB843]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its 143rd Scientific and Statistical Committee (SSC), Pelagic and International Standing Committee, Executive and Budget Standing Committee, and 190th Council meetings to take actions on fishery management issues in the Western Pacific Region.

DATES: The meetings will be held between March 15 and March 24, 2022. For specific times and agendas, see SUPPLEMENTARY INFORMATION.

ADDRESSES: The meetings will be held by web conference via Webex. Instructions for connecting to the web conference and providing oral public comments will be posted on the Council website at www.wpcouncil.org. For assistance with the web conference connection, contact the Council office at (808) 522-8220.

The Council has arranged host sites only for the 190th Council meeting at the following venues: Cliff Pointe, 304 W. O'Brien Drive, Hagatna, Guam; BRI Building Suite 205, Kopa Di Oru St., Garapan, Saipan, Commonwealth of the Northern Mariana Islands (CNMI); and, Tedi of Samoa Building Suite 208B, Fagatogo Village, American Samoa.

FOR FURTHER INFORMATION CONTACT: Contact Kitty M. Simonds, Executive Director, Western Pacific Fishery Management Council; phone: (808) 522-8220.

SUPPLEMENTARY INFORMATION: All times shown are in Hawaii Standard Time. The 143rd SSC meeting will be held between 11 a.m. and 5 p.m. on March 15-17, 2022. The Pelagic and International Standing Committee will be held between 1 p.m. and 3 p.m. on March 21, 2022. The Executive and Budget Standing Committee meeting will be held between 3:30 p.m. and 5:30 p.m. on March 21, 2022. The 190th Council meeting will be held between 11 a.m. and 5 p.m. on March 22-24, 2022.

Please note that the evolving public health situation regarding COVID-19 may affect the conduct of the March Council and its associated meetings. At the time this notice was submitted for publication, the Council anticipated convening the meeting by web conference with host site locations in Guam, CNMI and American Samoa for the 190th Council meeting only. Council staff will monitor COVID-19 developments and will determine the extent to which in-person public participation at host sites will be allowable consistent with applicable local and federal safety and health guidelines. If public participation will be limited to web conference only or on a first-come-first-serve basis consistent with applicable guidelines, the Council will post notice on its website at www.wpcouncil.org.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 190th Council meeting will be available at www.wpcouncil.org. Written public comments on final action items at the 190th Council meeting should be received at the Council office by 5 p.m. HST, March 18, 2022, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 143rd SSC Meeting

Tuesday, March 15, 2022, 11 a.m. to 5 p.m.

1. Introductions

2. Approval of Draft Agenda and Assignment of Rapporteurs

3. Status of the 142nd SSC Meeting Recommendations

4. Pacific Islands Fisheries Science Center (PIFSC) Director Report

5. Island Fisheries

A. Review of the Acceptable Biological Catch for the Main Hawaiian Island Deepwater Shrimp and Precious Corals (Action Item)

B. Revision of the Territorial Bottomfish Management Unit Species (BMUS) Complex

1. Multivariate Analysis of the Territorial BMUS

2. Options for Revising the Territorial BMUS Complex

C. Outcomes of the American Samoa Bottomfish Fisherman Data Workshop

D. Public Comment

E. SSC Discussion and Recommendations

6. Protected Species

A. False Killer Whale Hook Study Implications

B. Meta-synthesis of Marine Turtle Post-release Mortality

C. Endangered Species Act (ESA) Consultations for the Hawaii Deep-set Longline Fishery, American Samoa Longline Fishery, and Bottomfish Fisheries

D. ESA and Marine Mammal Protection Act Updates

E. Public Comment

F. SSC Discussion and Recommendations

Wednesday, March 16, 2022, 11 a.m. to 5 p.m.

7. Pelagic and International Fisheries

A. 2021 American Samoa Longline Fishery Report

B. 2021 Hawaii Longline Fishery Report

C. Area Based Management

1. Assessing the Population-level Conservation Effects of Marine Protected Areas

2. The Trade-off Between Biodiversity and Sustainable Fish Harvest with Area-Based Management

3. SSC Working Group on Area-Based Management

D. International Fisheries

1. South Pacific Regional Fisheries Management Organization (SPRFMO) Annual Meeting

2. New Strategy for Addressing Western-Central Pacific Fisheries Commission (WCPFC) Issues

3. Biodiversity Beyond National Jurisdiction

E. Public Comment

F. SSC Discussion and Recommendations

Thursday, March 17, 2022, 11 a.m. to 5 p.m.

8. Other Business

A. June 14-16, 2022 SSC Meeting Dates

9. Summary of SSC Recommendations to the Council

Agenda for the Pelagic and International Standing Committee

Monday, March 21, 2022, 1 p.m. to 3 p.m.

1. Status of ESA Biological Opinions

2. MSA304(i) Obligations for Western and Central Pacific Silky Sharks

3. International Fisheries

A. Update from PIRO on WCPFC Matters

B. New Pacific Strategy & Information Paper

4. Advisory Group Report and Recommendations

5. Other Business

6. Public Comment

7. Discussion and Recommendations

Agenda for the Executive and Budget Standing Committee

Monday, March 21, 2022, 3:30 p.m. to 5:30 p.m.

1. Financial Reports

2. Administrative Reports

3. Regional Operating Agreement Update

4. Council Family Changes

5. Meetings and Workshops

6. Other Issues

7. Public Comment

8. Discussion and Recommendations

Agenda for the 190th Council Meeting

Tuesday, March 22, 2022, 11 a.m. to 5 p.m.

1. Welcome and Introductions

2. Approval of the 190th Agenda

3. Approval of the 189th Meeting Minutes

4. Executive Director's Report

5. Agency Reports

A. NMFS

1. Pacific Islands Regional Office

2. PIFSC

B. NOAA Office of General Counsel Pacific Islands Section

C. Enforcement

1. U.S. Coast Guard

2. NOAA Office of Law Enforcement

3. NOAA Office of General Counsel Enforcement Section

D. U.S. State Department

E. U.S. Fish and Wildlife Service

F. Public Comment

G. Council Discussion and Action

6. Mariana Archipelago

A. Guam

1. Department of Agriculture/Division Aquatic and Wildlife Resources Report

2. Isla Informe

B. CNMI

1. Arongol Falú

2. Department of Lands Natural Resources/Division of Fish and Wildlife Report

3. Proposed Marianas Sanctuary Nomination Discussion

C. Advisory Group Report and Recommendations

1. Advisory Panel

2. Fishing Industry Advisory Committee

3. Scientific and Statistical Committee

D. Public Comment

E. Council Discussion and Action

7. Hawaii Archipelago and Pacific Remote Island Areas

A. Moku Pepa

B. Department of Land and Natural Resources/Division of Aquatic Resources Report (Legislation, Enforcement)

C. Green Turtle Management Update

D. Northwestern Hawaiian Islands Proposed National Marine Sanctuary 304(a)(5) Council Response

E. Specification of the Main Hawaiian Island Deepwater Shrimp and Precious Coral Annual Catch Limits for Fishing Year 2022-2025 (Final Action)

F. Advisory Group Report and Recommendations

1. Advisory Panel

2. Fishing Industry Advisory Committee

3. Scientific and Statistical Committee

G. Public Comment

H. Council Discussion and Action

Tuesday, March 22, 2022, 4:30 p.m. to 5 p.m.

Public Comment on Non-Agenda Items

Wednesday, March 23, 2022, 11 a.m. to 5 p.m.

8. Pelagic and International Fisheries

A. 2021 American Samoa Longline Fishery Report

B. 2021 Hawaii Longline Fishery Report

C. Area-Based Management Working Group Reports

1. Assessing the Population-level Conservation Effects of Marine Protected Areas

2. The Trade-off Between Biodiversity and Sustainable Fish Harvest with Area-Based Management

3. SSC Working Group on Area-Based Management

D. International Fisheries

1. SPRFMO Annual Meeting

2. New Strategy for Addressing WCPFC Issues

3. Biodiversity Beyond National Jurisdiction

E. Advisory Group Report and Recommendations

1. Advisory Panel

2. Fishing Industry Advisory Committee

3. Scientific and Statistical Committee

F. Pelagic and International Standing Committee

G. Public Comment

H. Council Discussion and Action

9. Protected Species

A. False Killer Whale Hook Study Implications

B. ESA Section 7 Mapper Overview

C. ESA Consultations for the Hawaii Deep-set Longline Fishery, American Samoa Longline Fishery, and Bottomfish Fisheries

D. ESA and Marine Mammal Protection Act Updates

E. Advisory Group Report and Recommendations

1. Advisory Panel

2. Fishing Industry Advisory Committee

3. Scientific and Statistical Committee

F. Public Comment

G. Council Discussion and Action

10. American Samoa Archipelago

A. Motu Lipoti

B. DMWR Report

C. Outcomes of the American Samoa Bottomfish Fisherman Data Workshop

D. Advisory Group Report and Recommendations

1. Advisory Panel

2. Fishing Industry Advisory Committee

3. Scientific and Statistical Committee

E. Public Comment

F. Council Discussion and Action

Thursday, March 24, 2022, 11 a.m.-5 p.m.

11. Program Planning and Research

A. National Legislative Report

B. Multivariate Analysis of the Territorial Bottomfish Management Unit Species

C. Options for Revising the Territorial BMUS Complex

D. Report of the Pilot Implementation of Catchit Logit

E. Aquaculture Management Final Programmatic Environmental Impact Statement and Future Action

F. Report on the Environmental Justice Workshop

G. Regional Communications and Outreach Report

H. Advisory Group Report and Recommendations

1. Advisory Panel

2. Fishing Industry Advisory Committee

3. Archipelagic Plan Team

4. Scientific and Statistical Committee

I. Public Comment

J. Council Discussion and Action

12. Administrative Matters

A. Financial Reports

B. Administrative Reports

C. Regional Operating Agreement Update

D. Council Family Changes

E. Meetings and Workshops

F. Standing Committee Report

G. Public Comment

H. Council Discussion and Action

13. Other Business

Non-emergency issues not contained in this agenda may come before the Council for discussion and formal Council action during its 190th meeting. However, Council action on regulatory issues will be restricted to those issues specifically listed in this document and any regulatory issue arising after publication of this document that requires emergency action under section 305(c) of the MSA, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: February 23, 2022.
Tracey L. Thompson,
Acting Deputy Director, Office of Sustainable Fisheries, National Marine Fisheries Service.

[FR Doc. 2022-04137 Filed 2-25-22; 8:45 am]

BILLING CODE 3510-22-P